DEPARTMENT OF COMMERCE

International Trade Administration

[C-357-815]

Final Notice of Rescission of Countervailing Duty Administrative Review: Certain Hot-Rolled Carbon Steel Flat Products from Argentina

AGENCY: Import Administration, International Trade Administration, Department of Commerce.

ACTION: Final Notice of Rescission of Countervailing Duty Administrative Review.

SUMMARY: On May 16, 2003, the Department of Commerce (the Department) published in the Federal Register its notice of intent to rescind the countervailing duty administrative review on certain hot-rolled carbon steel flat products from Argentina (hot-rolled products), covering the period January 1, 2001 through December 31, 2001, and one manufacturer/exporter of the subject merchandise, Siderar Sociedad Anonima Industrial & Commercial (Siderar). See Notice of Intent to Rescind Countervailing Duty Administrative Review: Certain Hot-Rolled Carbon Steel Flat Products from Argentina, 68 FR 26572 (May 16, 2003) (Notice of Intent to Rescind). On May 28, 2003, the Department published in the Federal Register a notice of correction to the notice of intent to rescind the countervailing duty administrative review. See Notice of Correction to the Notice of Intent to Rescind Countervailing Duty Administrative Review: Certain Hot-Rolled Carbon Steel Flat Products From Argentina, 68 FR 31685 (May 28, 2003).

As noted in the Scope of the Review section below, we inadvertently described hot-rolled carbon quality steel as the products subject to review. We have now correctly described subject merchandise as certain hot-rolled steel flat products. Based on our analysis of comments received, the Department has not made any changes to the decision articulated in the Notice of Intent to Rescind, except for the scope description. Therefore, in accordance with 19 CFR 351.213(d)(4), the Department has rescinded the review of hot-rolled products from Argentina.

EFFECTIVE DATE: September 22, 2003.

FOR FURTHER INFORMATION CONTACT: Stephanie Moore or Cindy Robinson, AD/CVD Enforcement, Office 6, Group II, Import Administration, International Trade Administration, U.S. Department of Commerce, 14th Street and Constitution Avenue NW., Washington, DC 20230; telephone: (202) 482-3692 or (202) 482-3797, respectively.

SUPPLEMENTARY INFORMATION:

Background

On September 11, 2001, the Department published in the Federal Register the countervailing duty order on hot-rolled carbon steel flat products from Argentina. See Notice of Countervailing Duty Order: Certain Hot-Rolled Carbon Steel Flat Products From Argentina, 66 FR 47173 (September 11, 2001).

On September 3, 2002, the Department published the Notice of Opportunity to Request Administrative Review of Antidumping or Countervailing Duty Order, Finding, or Suspended Investigation, 67 FR 56267 (September 3, 2002).

On September 30, 2002, the Department received a request from Siderar to conduct an administrative review of the countervailing order on hot-rolled products from Argentina. On October 24, 2002, the Department initiated an administrative review of this order for the period January 1, 2001 through December 31, 2001 (period of review). Pursuant to 19 CFR 351.213(b), this review only covers Siderar, the producer/exporter of the subject merchandise for which a review was specifically requested.

On May 16, 2003, the Department published in the Federal Register the Notice of Intent to Rescind. On May 28, 2003, the Department published in the Federal Register a correction to the Notice of Intent to Rescind to allow interested parties to comment.

On June 27, 2003, the Department received comments from the Government of Argentina (GOA) and Siderar (collectively, respondents). On July 2, 2003, the Department received rebuttal comments from National Steel Corporation and United States Steel Corporation (petitioners).

Scope of the Review

Note: In the Notice of Intent to Rescind, we inadvertently described hot-rolled carbon quality steel as the products subject to review. We have now correctly described subject merchandise below as certain hot-rolled steel flat products.

The merchandise subject to this review is certain hot-rolled flat-rolled carbon-quality steel products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4 mm, not in coils and without patterns in relief) of a thickness not less than 4.0 mm is not included within the scope of this review.

Specifically included within the scope of this review are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of this review, regardless of definitions in the Harmonized Tariff Schedule of the United States (HTSUS), are products in which: i) iron predominates, by weight, over each of the other contained elements; ii) the carbon content is 2 percent or less, by weight; and iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this review unless otherwise excluded. The following products, by way of example, are outside or specifically excluded from the scope of this review:

• Alloy hot-rolled steel products in which at least one of the chemical elements exceeds those listed above (including, e.g., ASTM specifications A543, A387, A514, A517, A506).

• SAE/AISI grades of series 2300 and higher.

• Ball bearings steels, as defined in the HTSUS

• Tool steels, as defined in the HTSUS.

• Silico-manganese (as defined in the HTSUS) or silicon electrical steel with a silicon level exceeding 2.25 percent.

• ASTM specifications A710 and A736.

• USS Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this review is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon-quality steel covered by this review, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00.

Although the HTSUS subheadings are provided for convenience and customs purposes, the Department's written description of the merchandise subject to this proceeding is dispositive.

Analysis of Comments Received

All issues raised in the case briefs by parties to this administrative review are addressed in the “Issues and Decision Memorandum” (Decision Memorandum) dated concurrently with this notice which is hereby adopted by this notice. A list of issues which parties have raised, and to which we have responded, all of which are in the Decision Memorandum, is attached to this notice as Appendix I. Parties can find a complete discussion of all issues raised in this review and the corresponding recommendations in this public memorandum which is on file in the Central Records Unit in room B-099 of the Main Commerce Building. In addition, a complete version of the Decision Memorandum can be accessed directly on the World Wide Web at http://wwwa.ita.doc.gov, under the heading “Federal Register Notices.” The paper copy and electronic version of the Decision Memorandum are identical in content.

Rescission of Review

Based on our analysis of comments received, the Department has not made any changes to the decision articulated in the Notice of Intent to Rescind, except for the scope description as noted in the Scope of the Review section above. In accordance with 19 CFR 351.213(d)(4), the Department has now rescinded the review of hot-rolled products from Argentina covering the period January 1, 2001 through December 31, 2001.

We will instruct the U.S. Bureau of Customs and Borders Protection (BCBP) to assess countervailing duties at the cash deposit or bonding rate required at the time of entry. We will also instruct BCBP to continue to collect cash deposits of estimated countervailing duties for the merchandise at the current rates.

This notice is in accordance with sections 751(a)(1) and 777(i) of the Tariff Act of 1930, as amended, and 19 CFR 351.213(d)(4).

Dated: September 15, 2003.
James J. Jochum,
Assistant Secretary for Import Administration.

Appendix I - Issues Discussed in Decision Memorandum

Analysis of Comments

Comment 1—The Statute and Regulations Provide the Department with the Discretion to Conduct Countervailing Duty (CVD) Reviews in the Absence of Shipments

Comment 2—Department Practice and the Unique Circumstances of This Case Warrant Conducting a Review and Adjusting the Deposit Rate

[FR Doc. 03-24128 Filed 9-18-03; 12:01 pm]

BILLING CODE 3510-DS-S